DEPARTMENT OF COMMERCE

International Trade Administration

[A-570-119]

Certain Vertical Shaft Engines Between 225cc and 999cc, and Parts Thereof From the People's Republic of China: Postponement of Preliminary Determination in the Antidumping Duty Investigation

AGENCY: Enforcement and Compliance, International Trade Administration, Department of Commerce.

DATES: Applicable June 2, 2020.

FOR FURTHER INFORMATION CONTACT: Leo Ayala, AD/CVD Operations, Enforcement and Compliance, International Trade Administration, Department of Commerce, 1401 Constitution Avenue NW, Washington, DC 20230; telephone: (202) 482-3945.

SUPPLEMENTARY INFORMATION:

Background

On February 4, 2020, the Department of Commerce initiated the antidumping duty investigation on certain vertical shaft engines between 225cc and 999cc, and parts thereof from the People's Republic of China, covering the period of investigation (POI) July 1, 2019 through December 31, 2019.¹ Currently, the preliminary determination is due no later than June 23, 2020.

¹ See Certain Vertical Shaft Engines between 225cc and 999cc, and Parts Thereof from the People's Republic of China: Initiation of Less-Than-Fair-Value Investigation, 85 FR 8809 (February 18, 2020).

Postponement of the Preliminary Determination

Section 733(b)(1)(A) of the Tariff Act of 1930, as amended (the Act), requires Commerce to issue the preliminary determination in an antidumping investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), a petitioner must submit a request for postponement 25 days or more before the scheduled date of the preliminary determination and must state the reason for the request. Commerce will grant the request unless it finds compelling reasons to deny the request.²

² See 19 CFR 351.205(e).

On May 20, 2020, Briggs & Stratton Corporation, the petitioner in this investigation, submitted a timely request pursuant to section 733(c)(1) of the Act and 19 CFR 351.205(e) to postpone fully the preliminary determination. The petitioner stated that the purpose of its request was to provide Commerce with sufficient time to receive and analyze the questionnaire responses of the mandatory respondents, issue any supplemental questionnaires, and prepare an accurate preliminary dumping margin calculation.³

³ See Petitioner's Letter, “Certain Vertical Shaft Engines Between 225cc and 999cc, and Parts Thereof, From the People's Republic of China: Petitioner's Request for Postponement Of The Preliminary Determination,” dated May 20, 2020.

Consistent with 19 CFR 351.205(e), the petitioner stated the reasons for its request, and Commerce finds no compelling reason to deny the request. Therefore, in accordance with section 733(c)(1)(A) of the Act, Commerce is postponing the deadline for the preliminary determination to August 12, 2020.⁴ Pursuant to section 735(a)(l) of the Act and 19 CFR 351.210(b)(1), the deadline for the final determination will continue to be 75 days after the date of the preliminary determination, unless postponed at a later date.

⁴ In this case, 190 days after initiation falls on August 12, 2020.

This notice is issued and published pursuant to section 733(c)(2) of the Act and 19 CFR 351.205(f)(l).

Dated: May 27, 2020.
Jeffrey I. Kessler,
Assistant Secretary for Enforcement and Compliance.

[FR Doc. 2020-11886 Filed 6-1-20; 8:45 am]

BILLING CODE 3510-DS-P